Title 3—

The President

Proclamation 8884 of October 8, 2012

Establishment of the César E. Chávez National Monument

By the President of the United States of America

A Proclamation

The property in Keene, California, known as Nuestra Señora Reina de la Paz (Our Lady Queen of Peace) (La Paz), is recognized for its historic significance to César Estrada Chávez and the farm worker movement. César Chávez is one of the most revered civil rights leaders in the history of the United States. From humble beginnings in Yuma, Arizona, to the founding of the United Farm Workers (UFW) movement, César Chávez knew firsthand the hard work of farm workers in the fields across the United States and their contribution to feeding the Nation. He saw and experienced the difficult conditions and hardships that confronted farm worker families. And through his hard work, perseverance, and personal sacrifice, he dedicated his life to the struggle for respect and dignity for the farm workers of America.

His faith, his passion for nonviolence rooted in the teachings of Dr. Martin Luther King, Jr., and Mohandas Gandhi, and his inspirational leadership are best reflected in his own eloquent words: “When the man who feeds the world by toiling in the fields is himself deprived of the basic rights of feeding, sheltering, and caring for his own family, the whole community of man is sick.”

La Paz served as the national headquarters of the UFW and the home and workplace of César Chávez, his family, union members, and supporters. It remains the symbol of the movement's most significant achievements and its expanding horizons.

In 1972, the UFW made La Paz its official national headquarters. With existing residential buildings, administrative spaces, maintenance shops, and supporting infrastructure from its former use as a tuberculosis sanatorium, the property supported a new community almost immediately. César Chávez and his family moved to the property, as did a fluctuating population of union employees, members, and supporters.

From the 1970s through César Chávez death in 1993, La Paz was at the forefront of the American farm worker movement. Thousands of farm workers and their supporters from California and across the country streamed through La Paz to meet with movement leaders, learn from other farm workers, devise strategies, negotiate contracts, receive training, volunteer their time, and celebrate meaningful events. Throughout this period, La Paz became a symbol of the accomplishments and broadening of the American farm worker movement.

At La Paz, members of the farm worker movement celebrated such victories as the passage of the Agricultural Labor Relations Act of 1975, the first Federal law recognizing farm workers' collective bargaining rights. At La Paz, the UFW grew and expanded from its early roots as a union for farm workers to become a national voice for the poor and disenfranchised.

For César Chávez, La Paz also provided the respite he needed to continue serving the farm worker movement. His attachment to La Paz as both a refuge and a place where he engaged in his life's work grew stronger over the years.

La Paz was a place where he and other farm worker leaders strategized and reflected on challenges the union was facing, celebrated victories and mourned losses, and watched the union endure and modernize. The building that is now the Visitor Center contains César Chávez's office (which still houses original furnishings and artifacts), as well as the UFW legal aid offices. La Paz also was a place where he watched his children grow up, marry, and begin to raise children of their own. The home of César and Helen Chávez remains at La Paz. That César Chávez wished to be buried at La Paz upon his death is an enduring testament to the strength of his association with the property. The Chávez Memorial Garden contains the grave site of César Chávez. Other buildings and structures at the La Paz campus, which is listed in the National Register of Historic Places and designated a National Historic Landmark, are recognized as contributing to its historic significance.

This site marks the extraordinary achievements and contributions to the history of the United States made by César Chávez and the farm worker movement that he led with great vision and fortitude. La Paz reflects his conviction that ordinary people can do extraordinary things.

Whereas section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

Whereas Nuestra Señora Reina de la Paz was designated a National Historic Landmark on October 8, 2012, establishing its national significance based on its association with César Chávez and the farm worker movement that he led;

Whereas the National Chávez Center and the César Chávez Foundation have expressed support for establishing a unit of the National Park System at La Paz;

Whereas the National Chávez Center has donated to the United States certain lands and interests in lands at La Paz (including fee title in the Visitor Center that contains the office of César Chávez and legal aid offices, César Chávez's home, and the Memorial Garden that includes the grave of César Chávez, as well as an easement for the protection of and access to other historically significant buildings, structures, and associated landscapes located adjacent to the fee lands) for administration by the Secretary of the Interior (Secretary) in accordance with the provisions of the Antiquities Act and other applicable laws;

Whereas it is in the public interest to preserve the historic objects at La Paz;

NOW, THEREFORE, I, BARACK OBAMA, President of the United States of America, by the authority vested in me by section 2 of the Antiquities Act hereby proclaim, set apart, and reserve as the César E. Chávez National Monument (monument) the objects identified above and all lands and interests in lands owned or controlled by the Government of the United States within the boundaries described on the accompanying map, which is attached to and forms a part of this proclamation. These reserved Federal lands and interests in lands encompass approximately 10.5 acres, together with appurtenant easements for all necessary purposes, which is the smallest area compatible with the proper care and management of the objects to be protected.

All Federal lands and interests in lands within the boundaries of this monument are hereby appropriated and withdrawn from all forms of entry, location, selection, sale, leasing, or other disposition under the public lands laws, including withdrawal from location, entry, and patent under the mining laws, and from disposition under all laws relating to mineral and geothermal leasing.

The establishment of this monument is subject to valid existing rights. Lands and interests in lands within the monument's boundaries not owned or controlled by the United States shall be reserved as part of the monument upon acquisition of ownership or control by the United States.

The Secretary shall manage the monument through the National Park Service, pursuant to applicable legal authorities, consistent with the purposes and provisions of this proclamation. For the purpose of preserving, restoring, and enhancing the public visitation and appreciation of the monument, the Secretary shall prepare a management plan for the monument within 3 years of the date of this proclamation. The management plan will ensure that the monument fulfills the following purposes for the benefit of present and future generations: (1) to preserve the historic resources; (2) to commemorate the life and work of César Chávez; and (3) to interpret the struggles and achievements of the broader farm worker movement throughout the United States. The management plan shall, among other provisions, set forth the desired relationship of the monument to other related resources, programs, and organizations at La Paz, as well as at other sites significant to the farm worker movement, such as the Forty Acres National Historic Landmark site and the Filipino Community Hall in Delano, California, the Santa Rita Center in Phoenix, Arizona, and McDonnell Hall in San Jose, California, including march routes. The management planning process shall provide for maximum public involvement, including consultation with the National Chávez Center and the César Chávez Foundation, and shall identify steps to be taken to provide interpretive opportunities for the entirety of the National Historic Landmark District at La Paz and related sites as described above, where appropriate for a broader understanding of the farm worker movement.

The National Park Service shall consult with the National Chávez Center, the César Chávez Foundation, and other appropriate organizations in planning for interpretation and visitor services at the monument. The National Park Service shall, in its interpretive programming, recognize the contributions of many people, cultures, and organizations to the farm worker movement, such as women, youth, and religious organizations. To the extent practicable and appropriate, the National Park Service shall seek to provide coordinated visitor services and interpretive opportunities with the National Chávez Center throughout the La Paz site, on property owned and managed by the National Chávez Center as well as on property administered by the National Park Service. The National Park Service is directed to use applicable authorities to seek to enter into agreements with the National Chávez Center to address common interests, including provision of visitor services, interpretation and education, establishment and care of museum collections, and care of historic resources.

Further, to the extent authorized by law, the Secretary shall promulgate any additional regulations needed for the proper care and management of the monument.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this eighth day of October, in the year of our Lord two thousand twelve, and of the Independence of the United States of America the two hundred and thirty-seventh.

Billing code 3295-F3-P

[FR Doc. 2012-25336

Filed 10-11-12; 11:15 am]

Billing code 4310-10-C